DEPARTMENT OF HEALTH AND HUMAN SERVICES

Indian Health Service

Office of Clinical and Preventive Services: National HIV Program

Announcement Type: Cooperative Agreement.

Funding Opportunity Number: HHS-2010-IHS-OCPS-HIV-0001.

Catalog of Federal Domestic Assistance Number: 93.933.

Key Dates

Application Deadline Date: April 30, 2010.

Review Date: May 12, 2010.

Anticipated Start Date: June 1, 2010.

I. Funding Opportunity Description

Statutory Authority

The Indian Health Service (IHS) announces that competitive cooperative agreement applications are now being accepted by the IHS Office of Clinical and Preventive Services (OCPS) for the National Human Immunodeficiency Virus/Acquired Immunodeficiency Syndrome (HIV/AIDS) Program. This program is authorized under the Snyder Act, 25 U.S.C. 13, and the Indian Health Care Improvement Act, 25 U.S.C. 1602(a)(b)(42)(43). This program is described under 93.933 in the Catalog of Federal Domestic Assistance (CFDA). There will be only one funding cycle during Fiscal Year (FY) 2010.

Background

Enhancement of HIV/AIDS testing activities in American Indian/Alaska Native (AI/AN) people is necessary to reduce the incidence of HIV/AIDS in those communities by increasing access to HIV related services, reducing stigma, and making testing routine. This open competition seeks to expand fiscal resources to increase the number of AI/AN with awareness of his/her HIV status. The cooperative agreements will provide routine HIV screening for adults as per 2006 Centers for Disease Control and Prevention (CDC) guidelines, and pre- and post-test counseling (when appropriate).

Purpose

These cooperative agreements will be used to identify best practices to enhance HIV testing, including rapid testing and/or conventional HIV antibody testing, and to provide a more focused effort to address HIV/AIDS prevention in AI/AN populations in the United States.

The nature of these projects will require collaboration to: (1) Coordinate activities with the IHS National HIV Program; and (2) submit and share non-personally identifiable (NPI) data surrounding HIV/AIDS testing, treatment and education.

These agreements are intended to encourage development of sustainable, routine HIV screening programs in Tribal health facilities that are aligned with 2006 CDC HIV screening guidelines (http://www.cdc.gov/mmwr/preview/mmwrhtml/rr5514a1.htm). Key features include streamlined consent and counseling procedures (verbal consent, opt-out), a clear HIV screening policy, identifying and implementing any necessary staff training, community awareness, and a clear follow-up protocol for HIV positive results including linkages to care. Grantees may choose to bundle HIV tests with sexually transmitted diseases (STD) screening.

II. Award Information

Type of Awards

Cooperative Agreement.

Estimated Funds Available

The total amount of funding identified for the current Fiscal Year (FY) 2010 is approximately $540,000. Competing and continuation awards issued under this announcement are subject to the availability of funds. In the absence of funding, the agency is under no obligation to make additional awards under this announcement.

Anticipated Number of Awards

Approximately six cooperative agreement (CA) awards will be issued under this program announcement. Projects will be funded for annual budget periods in the amount of approximately $90,000.

Project Period

This is a 2 year project.

Programmatic Involvement

Limitations—Only one CA project will be awarded per Tribe, Tribal organization, or intertribal consortium. Proposed activities that cover large populations and/or geographical areas that do not necessarily correspond with current IHS administrative areas are encouraged. In conducting activities to achieve the purpose of this program, the recipient will be responsible for the activities under: (1) Recipient Activities, and IHS will be responsible for conducting activities under (2) IHS Activities.

1. Recipient Activities

• Assist AI/AN communities and Tribal organizations in increasing the number of AI/ANs with awareness of his/her HIV status. The grantee will assist and facilitate reporting of HIV diagnoses to local and State public health authorities in the region as required under existing public health statutes.

• Test at least one previously-untested (not tested in the prior five years) patient for every $75.00 in cooperative agreement funds received, inclusive of all ancillary and indirect costs.

• Collaborate with national IHS programs by providing standardized, anonymous HIV surveillance data on a quarterly basis, and in identifying and documenting best practices for implementing routine HIV testing.

• Participate in the development of systems for sharing, improving, and disseminating aggregate HIV data at a national level for purposes of advocacy for AI/AN communities, Government Performance Results Act of 1993 (GPRA), Healthy People 2010 and other national-level activities.

• A three page mid-year report and no more than a ten page summary annual report at the end of each project year. The report should establish the impact and outcomes of various methods of implementing routine screening tried during the funding period.

2. IHS Activities

• Provide funded organizations with ongoing consultation and technical assistance to plan, implement, and evaluate each component of the comprehensive program as described under Recipient Activities above. Consultation and technical assistance will include, but not be limited to, the following areas:

(a) Interpretation of current scientific literature related to epidemiology, statistics, surveillance, Healthy People 2010 Objectives, and other HIV disease control activities;

(b) Design and implementation of program components (including, but not limited to, program implementation methods, surveillance, epidemiologic analysis, outbreak investigation, development of programmatic evaluation, development of disease control programs, and coordination of activities);

(c) Overall operational planning and program management;

(d) Conduct visits to assess program progress and mutually resolve problems, as needed; and

(e) Coordinate these activities with all IHS HIV activities on a national basis.

III. Eligibility Information

1. Eligibility

• Federally recognized AI/AN Tribes, as defined under 25 U.S.C. 1603(d).

• Tribal Organizations, as defined under 25 U.S.C. 1603(e).

• Consortium of two or more of those Tribes or Tribal Organizations.

Definitions

Indian Tribe means any Indian Tribe, band, nation, or other organized group or community, including any Alaska Native village or group or regional or village corporation as defined in or established pursuant to the Alaska Native Claims Settlement Act (85 Stat. 688) [43 U.S.C. 1601 et seq.], which is recognized as eligible for the special programs and services provided by the United States to Indians because of their status as Indians. 25 U.S.C. 1603(d).

Tribal organization means the elected governing body or any legally established organization of Indians which is controlled by one or more such bodies or by a board of directors elected or selected by one or more such bodies (or elected by the Indian population to be served by such organization) and which includes the maximum participation of Indians in all phases of its activities. 25 U.S.C. 1603(e).

Applicants other than Tribes must provide proof of non-profit status. Eligible consortiums must represent or propose to serve a population of at least 20,000 AI/ANs in order to be considered eligible. An intertribal consortium or AI/AN organization is eligible to receive a cooperative agreement if it is incorporated for the primary purpose of improving AI/AN health, and it is representing the Tribes or AN villages in which it is located. Collaborations with regional IHS, CDC, State, or organizations are encouraged and proof of such collaboration must be included in the application.

2. Cost Sharing or Matching

This program does not require matching funds or cost sharing.

3. Other Requirements

If application budgets exceed the stated dollar amount that is outlined within this announcement it will not be considered for funding.

Letters of Support (LoS) documentation is required with the submission of your application. LoS will be required from each Tribe that your entity will serve acknowledging this grant's activities. All letters of support must be signed by an official that is authorized to sign on behalf of the Tribe. LoS must be received by April 27, 2010, or the application will be considered incomplete, ineligible for review, and returned to the applicant without further consideration. Applicants submitting additional documentation after the initial application submission are required to ensure the information was received by the IHS by obtaining documentation confirming delivery (i.e. FedEx tracking, postal return receipt, etc.).

IV. Application and Submission Information

1. Obtaining Application Materials

The application package and instructions may be located at:

• Grants.gov: http://www.grants.gov .

• Grants Policy Web site: http://www.ihs.gov/NonMedicalPrograms/gogp/index.cfm?module=gogp_funding.

2. Content and Form Application Submission

The applicant must include the project narrative as an attachment to the application package.

Mandatory documents for all applicants include:

• Application forms:

○ SF-424.

○ SF-424A.

○ SF-424B.

• Budget Narrative (must be single spaced).

• Project Narrative (must not exceed 15 pages).

• Tribal Resolution or Tribal Letter of Support (Tribal Organizations only).

• Biographical sketches for all Key Personnel.

• Disclosure of Lobbying Activities (SF-LLL), if applicable.

• Documentation of current OMB A-133 required Financial Audit, if applicable. Acceptable forms of documentation include:

○ E-mail confirmation from Federal Audit Clearinghouse (FAC) that audits were submitted; or

○ Face sheets from audit reports. These can be found on the FAC Web site: http://harvester.census.gov/fac/dissem/accessoptions.html?submit=Retrieve+Records.

Public Policy Requirements

All Federal-wide public policies apply to IHS grants with exception of the Discrimination policy.

Requirements for Project and Budget Narratives

A. Project Narrative: This narrative should be a separate Word document that is no longer than 15 pages (see page limitations for each Part noted below) with consecutively numbered pages. Be sure to place all responses and required information in the correct section or they will not be considered or scored. If the narrative exceeds the page limit, only the first 15 pages will be reviewed. There are three parts to the narrative: Part A—Program Information; Part B—Program Planning and Evaluation; and Part C—Program Report. See below for additional details about what must be included in the narrative.

Part A: Program Information (no more than 3 pages)

Section 1: Needs.

Part B: Program Planning and Evaluation (no more than 5 pages)

Section 1: Program Plans.

Section 2: Program Evaluation.

Part C: Program Report (no more than 7 pages)

Section 1: Describe major Accomplishments over the last 24 months.

Section 2: Describe major Activities over the last 24 months.

B. Budget Narrative: This narrative must describe the budget requested and match the scope of work described in the project narrative. The page limitation should not exceed 3 pages.

3. Submission Dates and Times

Applications must be submitted electronically through Grants.gov by April 30, 2010 at 12 midnight Eastern Standard Time (EST). Any application received after the application deadline will not be accepted for processing, and it will be returned to the applicant(s) without further consideration for funding. If technical challenges arise and assistance is required with the electronic application process, contact Grants.gov Customer Support via e-mail at support@grants.gov or at (800) 518-4726. Customer Support is available to address questions 24 hours a day, 7 days a week (except on Federal holidays). If problems persist, contact Ms. Tammy Bagley, Division of Grants Policy (DGP) (tammy.bagley@ihs.gov) at (301) 443-5204. If assistance is needed, please be sure to contact Ms. Bagley at least ten days prior to the application deadline (April 30, 2010). Please do not contact the DGP until you have received a Grants.gov tracking number. In the event you are not able to obtain a tracking number, call the DGP as soon as possible.

If an applicant needs to submit a paper application instead of submitting electronically via Grants.gov, prior approval must be requested and obtained before submitting a paper application. E-mail requests are acceptable. A copy of the written approval must be submitted along with the hardcopy that is mailed to the DGO. Paper applications that are submitted without a waiver will be returned to the applicant without review or further consideration. Late applications will not be accepted for processing and will be returned to the applicant and will not be considered for funding.

4. Intergovernmental Review

Executive Order 12372 requiring intergovernmental review is not applicable to this program.

5. Funding Restrictions

• Pre-award costs are allowable pending prior approval from the awarding agency. However, in accordance with 45 CFR Part 92, pre-award costs are incurred at the recipient's risk. The awarding office is under no obligation to reimburse such costs if for any reason the applicant does not receive an award or if the award to the recipient is less than anticipated.

• The available funds are inclusive of direct and appropriate indirect costs.

• Only one grant/cooperative agreement will be awarded per applicant.

• IHS will not acknowledge receipt of applications.

6. Other Submission Requirements

Use the http://www.Grants.gov Web site to submit an application electronically and select the “Apply for Grants” link on the homepage. Download a copy of the application package, complete it offline, and then upload and submit the application via the Grants.gov Web site. Electronic copies of the application may not be submitted as attachments to e-mail messages addressed to IHS employees or offices.

Applicants that receive a waiver to submit paper application documents must follow the rules and timelines that are noted below. The applicant must seek assistance at least ten days prior to the application deadline.

Applicants that do not adhere to the timelines for Central Contractor Registry (CCR) and/or Grants.gov registration and/or request timely assistance with technical issues will not be considered for a waiver to submit a paper application.

Please be aware of the following:

• Please search for the application package in Grants.gov by entering the CFDA number or the Funding Opportunity Number. Both numbers are located in the header of this announcement.

• Paper applications are not the preferred method for submitting applications. However, if you experience technical challenges while submitting your application electronically, please contact Grants.gov Support directly at: http://www.Grants.gov/CustomerSupport or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, you must submit a request in writing (e-mails are acceptable) to GrantsPolicy@ihs.gov with a copy to Tammy.Bagley@ihs.gov. Please include a clear justification for the need to deviate from the standard electronic submission process.

• If the waiver is approved, the application should be sent directly to the DGO by the deadline date of April 30, 2010.

• Applicants are strongly encouraged not to wait until the deadline date to begin the application process through Grants.gov as the registration process for CCR and Grants.gov could take up to fifteen working days.

• Please use the optional attachment feature in Grants.gov to attach additional documentation that may be requested by the DGO.

• All applicants must comply with any page limitation requirements that are outlined in this Funding Announcement.

• After electronic submission of the application, the applicant will receive an automatic acknowledgment from Grants.gov that contains a Grants.gov tracking number. The DGO will download your application from Grants.gov and provide necessary copies to the appropriate agency officials. Neither the DGO nor the OCPS Program Staff will notify applicants that the application has been received.

E-mail applications will not be accepted under this announcement.

Dun and Bradstreet (D&B) Data Universal Numbering System (DUNS)

Applicants are required to have a DUNS number to apply for a grant or cooperative agreement from the Federal Government. The DUNS number is a unique nine-digit identification number provided by D&B, which uniquely identifies your entity. The DUNS number is site specific; therefore each distinct performance site may be assigned a DUNS number. Obtaining a DUNS number is easy and there is no charge. To obtain a DUNS number, you may access it through the following Web site: http://fedov.dnb.com/webform or to expedite the process call (866) 705-5711.

Another important fact is that applicants must also be registered with the CCR and a DUNS number is required before an applicant can complete their CCR registration. Registration with the CCR is free of charge. Applicants may register online at http://www.ccr.gov. Additional information regarding the DUNS, CCR, and Grants.gov processes can be found at: http://www.Grants.gov.

Applicants may register by calling 1(866) 606-8220. Please review and complete the CCR Registration worksheet located at http://www.ccr.gov.

V. Application Review Information

Points will be assigned to each evaluation criteria adding up to a total of 100 points.

1. Evaluation Criteria

The instructions for preparing the application narrative also constitute the evaluation criteria for reviewing and scoring the application. Weights assigned to each section are noted in parentheses. The narrative should include all prior years of activity; information for multi-year projects should be included as an appendix (see E. “Categorical Budget and Budget Justification”) at the end of this section for more information. The narrative should be written in a manner that is clear to outside reviewers unfamiliar with prior related activities of the entity. It should be well organized, succinct, and contain all information necessary for reviewers to understand the project fully. Emphasis will be placed on measures to increase testing and ensure sustainability of testing.

A. Understanding of the Need and Necessary Capacity (15 Points)

1. Understanding of the Problem

a. Define the project target population, identify their unique characteristics, and describe the impact of HIV on the population.

b. Describe the gaps/barriers in HIV testing for the population.

c. Describe the unique cultural or sociological barriers of the target population to adequate access for the described services.

2. Facility Capability

a. Briefly describe the health facility and user population.

b. Describe the health facility's ability to conduct this initiative through:

• Linkages to treatment and care: partnerships established to refer out of your health facility as needed for specialized treatment, care, confirmatory testing (if applicable) and counseling services.

B. Work Plan (40 Points)

• Implementation Plan

1. Identify the proposed program activities and explain how these activities will increase and sustain HIV screening.

2. Describe policy and procedure changes anticipated for testing implementation that include:

a. Support of CDC 2006 Revised Testing Recommendations.

b. Community awareness of new HIV testing policy.

c. Age and sex range of persons to be tested.

d. Bundling of HIV tests with STD tests.

e. Type of HIV test (rapid, conventional, Western Blot) and who will perform test (in-house, contract lab).

f. Inclusion, exclusion, or phased introduction of testing in outpatient, inpatient, acute care/emergency room, specialty clinics, community-based testing.

3. Provide a clear timeline with quarterly milestones for project implementation.

4. Describe which group(s), if any, to which you cannot, because of State regulations, offer testing with verbal consent only, in an opt-out format.

5. Describe how the program will ensure that clients receive their test results, particularly clients who test positive.

6. Describe how the program will ensure that individuals with initial HIV-positive test results will receive confirmatory tests. If you do not provide confirmatory HIV testing, you must provide a letter of intent or Memorandum of Understanding with an external laboratory documenting the process through which initial HIV-positive test results will be confirmed.

7. Describe the program strategies to linking potential seropositive patients to care.

8. Describe the program procedures for reporting seropositive patients to the appropriate State(s).

9. Describe the program quality assurance strategies.

10. Describe how the program will train, support and retain staff providing counseling and testing.

11. Describe how the program will ensure client confidentiality.

12. Describe how the program will ensure that your services are culturally sensitive and relevant.

13. Describe how the program will attempt to streamline procedures so as to reduce the overall cost per test administered.

C. Project Evaluation (20 Points)

1. Evaluation Plan

The grantee shall provide a plan for monitoring and evaluating implementation of the HIV rapid test and/or standard HIV antibody test, and to identify best practices.

2. Reporting Requirements

The following quantitative and qualitative measures shall be addressed:

• Required Quantitative Indicators (quantitative). Quarterly surveillance reports should be broken down by age and sex and contain only aggregate data, with no personal identifiers:

1. Number of tests performed and number of test refusals.

2. Number of clients learning of their serostatus for the first time via this testing initiative (unique patients, non-repeated tests). Number of clients tested for the first time in five years and meeting the programmatic definition of “previously untested.”

3. Number of reactive tests and confirmed seropositive (actual and proportion).

4. Number of clients linked to care/treatment or referrals for prevention counseling.

5. Number of individuals receiving their confirmatory test results.

• Required Qualitative Information

1. Measures in place to protect confidentiality.

2. Identify barriers to implementation as well as lessons learned for best practices to share with other Tribes or Tribal organizations.

3. Sustainability plan and measures of ongoing testing in future years after grant money has been spent.

• Other quantitative indicators may be collected to improve clinic processes and add to information reported, however are not required reporting measures:

1. Number of clients who refused due to prior knowledge of status.

2. Number of rapid versus standard antibody test.

3. Number of false negatives and/or positives after confirmatory test.

D. Organizational Capabilities and Qualifications (20 Points)

This section outlines the broader capacity of the organization to complete the project outlined in the work plan. It includes the identification of personnel responsible for completing tasks and the chain of responsibility for successful completion of the project outlined in the work plan.

1. Describe the organizational structure.

2. Describe the ability of the organization to manage the proposed project. Include information regarding similarly sized projects in scope and financial assistance as well as other grants and projects successfully completed.

3. Describe what equipment (i.e., phone, Web sites, etc.) and facility space (i.e., office space) will be available for use during the proposed project. Include information about any equipment not currently available that will be purchased throughout the agreement.

4. List key personnel who will work on the project.

• Identify staffing plan, existing personnel and new program staff to be hired.

• In the appendix, include position descriptions and resumes for all key personnel. Position descriptions should clearly describe each position and duties indicating desired qualifications, experience, and requirements related to the proposed project and how they will be supervised. Resumes must indicate that the proposed staff member is qualified to carry out the proposed project activities and who will determine if the work of a contractor is acceptable.

• Note who will be writing the progress reports.

• If a position is to be filled, indicate that information on the proposed position description.

• If the project requires additional personnel beyond those covered by the supplemental grant, (i.e., IT support, volunteers, interviewers, etc.), note these and address how these positions will be filled and, if funds are required, the source of these funds.

• If personnel are to be only partially funded by this supplemental grant, indicate the percentage of time to be allocated to this project and identify the resources used to fund the remainder of the individual's salary.

E. Categorical Budget and Budget Justification (5 Points)

Provide a clear estimate of the project program costs and justification for expenses for the entire grant period. The budget and budget justification should be consistent with the tasks identified in the work plan. The budget focus should be on routinizing and sustaining HIV testing services as well as reducing the cost per person tested.

1. Categorical budget (Form SF 424A, Budget Information Non-Construction Programs) completing each of the budget periods requested.

2. Budget narrative that serves as justification for all costs, explaining why each line item is necessary or relevant to the proposed project. Include sufficient details to facilitate the determination of allowable costs.

3. Budget justification should include a brief program narrative for the second year.

4. If indirect costs are claimed, indicate and apply the current negotiated rate to the budget. Include a copy of the rate agreement in the appendix.

2. Review and Selection Process

Each application will be prescreened by the DGO staff for eligibility and completeness as outlined in the funding announcement. Incomplete applications and applications that are non-responsive to the eligibility criteria will not be referred to the Objective Review Committee. Applicants will be notified by DGO, via letter, to outline the missing components of the application.

To obtain a minimum score for funding, applicants must address all program requirements and provide all required documentation. Applicants that receive less than a minimum score will be informed via e-mail of their application's deficiencies. A summary statement outlining the strengths and weaknesses of the application will be provided to these applicants. The summary statement will be sent to the Authorized Organizational Representative (AOR) that is identified on the face page of the application. In addition to the above criteria/requirements, the application will be considered according to the following:

A. The Submission Deadline: April 30, 2010

Applications submitted in advance of or by the deadline and verified by the postmark will undergo a preliminary review to determine that:

• The applicant is eligible in accordance with this grant announcement.

• The application is not a duplication of a previously funded project.

• The application narrative, forms, and materials submitted meet the requirements of the announcement allowing the review panel to undertake an in-depth evaluation; otherwise, it may be returned.

B. The Objective Review Date is May 12, 2010

The applications that are complete, responsive, and conform to this program announcement will be reviewed for merit by the Ad Hoc Objective Review Committee (ORC) appointed by the IHS to review and make recommendations on this application. Prior to ORC review, the application will be screened to determine that programs proposed are those which the IHS has the authority to provide, either directly or through funding agreement, and that those programs are designed for the benefit of IHS beneficiaries. If an eligible entity does not meet these requirements, the application will not be reviewed. The ORC review will be conducted in accordance with the IHS Objective Review Guidelines. The application will be evaluated and rated on the basis of the evaluation criteria listed in section V. 1. The criteria are used to evaluate the quality of a proposed project and determine the likelihood of success.

3. Anticipated Announcement and Award Dates

The anticipated Award Date is June 1, 2010.

VI. Award Administration Information

1. Award Notices

The Notice of Award (NoA) will be initiated by the DGO and will be mailed via postal mail to each entity that is approved for funding under this announcement. The NoA will be signed by the Grants Management Officer, and this is the authorizing document for which funds are dispersed to the approved entities. The NoA will serve as the official notification of the grant award and will reflect the amount of Federal funds awarded, the purpose of the grant, the terms and conditions of the award, the effective date of the award, and the budget/project period. The NoA is the legally binding document and is signed by an authorized grants official within the Indian Health Service.

2. Administrative Requirements

Grants are administered in accordance with the following regulations, policies, and OMB cost principles:

A. The Criteria as Outlined in This Program Announcement

B. Administrative Regulations for Grants

• 45 CFR Part 92, Uniform Administrative Requirements for Grants and Cooperative Agreements to State, Local and Tribal Governments.

C. Grants Policy

• HHS Grants Policy Statement, Revised 01/07.

D. Cost Principles

• Title 2: Grant and Agreements, Part 225—Cost Principles for State, Local, and Indian Tribal Governments (OMB A-87).

E. Audit Requirements

• OMB Circular A-133, Audits of States, Local Governments, and Non-profit Organizations.

3. Indirect Costs

This section applies to all grant recipients that request reimbursement of indirect costs in their grant application. In accordance with HHS Grants Policy Statement, Rev. 01/07 Part II-27, IHS requires applicants to obtain a current indirect cost rate agreement prior to award. The rate agreement must be prepared in accordance with the applicable cost principles and guidance as provided by the cognizant agency or office. A current rate covers the applicable grant activities under the current award's budget period. If the current rate is not on file with the DGO at the time of award, the indirect cost portion of the budget will be restricted. The restrictions remain in place until the current rate is provided to the DGO.

Generally, indirect costs rates for IHS grantees are negotiated with the Division of Cost Allocation (DCA) http://rates.psc.gov/ and the Department of Interior (National Business Center) http://www.aqd.nbc.gov/indirect/indirect.asp. For questions regarding the indirect cost policy, please call (301) 443-5204 to request assistance.

4. Reporting Requirements

Failure to submit required reports within the time allowed may result in suspension or termination of an active agreement, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the organization or the individual responsible for preparation of the reports.

A. Progress Report

Program progress reports are required semi-annually by the National HIV Program in order to satisfy quarterly reports due to funding source at Minority AIDS Initiative (MAI). These reports (due mid-November, February, May, August) will include quantitative data as well as a brief comparison of actual accomplishments to the goals established for the period or, if applicable, provide sound justification for the lack of progress, and other pertinent information as required. A final report must be submitted within 90 days of end of the budget/project period.

• An Assessment and Evaluation Report must be submitted within 30 days of the end of each funded year.

• Participation in a minimum of two teleconferences. Teleconferences will be required semi-annually (unless further follow up is needed) for Technical Assistance to be provided and progress to be shared.

• Site visits. Tribal sites using MAI resources should be amenable to the possibility of site visits by IHS staff administering MAI funds.

B. Financial Reports

Annual Financial Status Reports (FSR) must be submitted within 90 days after the budget period ends. Final FSRs are due within 90 days of expiration of the project period. Standard Form 269 (long form for those reporting on program income; short form for all others) will be used for financial reporting.

Federal Cash Transaction Reports are due every calendar quarter to the Division of Payment Management (DPM), Payment Management Branch. Please refer to the DPM Web site at: dpm.psc.gov. Failure to submit timely reports may cause a disruption in timely payments to your organization.

Telecommunication for the hearing impaired is available at: TTY (301) 443-6394.

VII. Agency Contacts

Grants Management Officer

Grants (Business)

Kimberly Pendleton, Grants Management Officer, 801 Thompson Avenue, TMP, Suite 360, Rockville, MD 20852. (301) 443-5204 or kimberly.pendleton@ihs.gov.

Program (Programmatic/Technical)

CAPT Scott Giberson, IHS National HIV Principal Consultant, 801 Thompson Ave, Reyes Building, Suite 306, Rockville, MD 20852. (301) 443-2449 or scott.giberson@ihs.gov.

The Public Health Service strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the HHS mission to protect and advance the physical and mental health of the American people.

Dated: March 12, 2010.
Yvette Roubideaux,
Director, Indian Health Service.

[FR Doc. 2010-6206 Filed 3-19-10; 8:45 am]

BILLING CODE 4165-16-P